ENVIRONMENTAL PROTECTION AGENCY

[ER-FRL-9024-6]

Environmental Impact Statements; Notice of Availability

Responsible Agency: Office of Federal Activities, General Information (202) 564-7146 or http://www2.epa.gov/nepa.

Weekly receipt of Environmental Impact Statements (EISs)

Filed 12/14/2015 Through 12/18/2015

Pursuant to 40 CFR 1506.9.

Notice

Section 309(a) of the Clean Air Act requires that EPA make public its comments on EISs issued by other Federal agencies. EPA's comment letters on EISs are available at: http://cdxnodengn.epa.gov/cdx-nepa-public/action/eis/search.

EIS No. 20150358, Draft, USACE, FL, Herbert Hoover Dike Dam Safety Modification, Comment Period Ends: 02/08/2016, Contact: Stacie Auvenshine 904-232-3694.

EIS No. 20150359, Draft, USFS, OR, Gap Landscape Restoration Project, Comment Period Ends: 02/08/2016, Contact: Gary Asbridge 541-416-6500.

EIS No. 20150360, Final, FERC, FL, Southeast Market Pipelines Project, Review Period Ends: 01/25/2016, Contact: John Peconom 202-502-6352.

EIS No. 20150361, Draft Supplement, FTA, CA, Transbay Transit Center Program, Comment Period Ends: 02/29/2016, Contact: Brenda Perez 415-744-2731.

EIS No. 20150362, Final Supplement, FTA, CA, Regional Connector Transit Corridor, Review Period Ends: 01/25/2016, Contact: Mary Nguyen 213-202-3960.

Dated: December 21, 2015.
Dawn Roberts,
Management Analyst, NEPA Compliance Division, Office of Federal Activities.

[FR Doc. 2015-32418 Filed 12-23-15; 8:45 am]

BILLING CODE 6560-50-P